FEDERAL MINE SAFETY AND HEALTH REVIEW COMMISSION

[BAC 6735-01]

Sunshine Act Notice

April 21, 2017.

TIME AND DATE: 10:00 a.m., Thursday, June 29, 2017.

PLACE: The Richard V. Backley Hearing Room, Room 511N, 1331 Pennsylvania Avenue NW., Washington, DC 20004 (enter from F Street entrance).

STATUS: Open.

MATTERS TO BE CONSIDERED: The Commission will hear oral argument in the matter Secretary of Labor v. Sims Crane, Inc., Docket No. SE 2015-315. (Issues include whether the Judge erred in interpreting the standard providing that miners must stay clear of the suspended loads of a crane.)

Any person attending this oral argument who requires special accessibility features and/or auxiliary aids, such as sign language interpreters, must inform the Commission in advance of those needs. Subject to 29 CFR 2706.150(a)(3) and 2706.160(d).

CONTACT PERSON FOR MORE INFORMATION: Emogene Johnson (202) 434-9935/(202) 708-9300 for TDD Relay/1-800-877-8339 for toll free.

PHONE NUMBER FOR LISTENING TO ARGUMENT: 1-(866) 867-4769, Passcode: 129-339.

Sarah L. Stewart,
Deputy General Counsel.

[FR Doc. 2017-08414 Filed 4-21-17; 11:15 am]

BILLING CODE P